DEPARTMENT OF LABOR

Employment and Training Administration

[TA-W-39,990]

Eaton Corporation, Cutler-Hammer; Pittsburgh, PA; Notice of Termination of Investigation

Pursuant to section 221 of the Trade Act of 1974, an investigation was initiated on September 10, 2001, in response to a petition filed by a company official on behalf of workers at Eaton Corporation, Cutler-Hammer, Pittsburgh, Pennsylvania.

The company official submitting the petition has requested that the petition be withdrawn. Consequently, further investigation in this case would serve no purpose, and the investigation has been terminated.

Signed in Washington, DC this 28th day of September, 2001.
Linda G. Poole,
Certifying Officer, Division of Trade Adjustment Assistance.

[FR Doc. 01-25476 Filed 10-10-01; 8:45 am]

BILLING CODE 4510-30-M